DEPARTMENT OF COMMERCE

National Oceanic and Atmospheric Administration

50 CFR Part 648

[Docket No. 230411-0097]

RIN 0648-BM22

Fisheries of the Northeastern United States; Northeast Multispecies Fishery; Fishing Year 2023 Recreational Management Measures

AGENCY: National Marine Fisheries Service (NMFS), National Oceanic and Atmospheric Administration (NOAA), Commerce.

ACTION: Proposed rule; request for comments.

SUMMARY: This rulemaking proposes fishing year 2023 recreational management measures for Georges Bank cod, Gulf of Maine cod, and Gulf of Maine haddock. The measures are intended to ensure the recreational fishery achieves, but does not exceed, fishing year 2023 catch limits for Gulf of Maine cod and haddock, and the recreational catch target for Georges Bank cod.

DATES: Comments must be received by 5 p.m. EST on May 3, 2023.

ADDRESSES: You may submit comments on this document, identified by NOAA-NMFS-2023-0054, by either of the following methods:

• Electronic Submission: Submit all electronic public comments via the Federal e-Rulemaking Portal. Go to www.regulations.gov and enter NOAA-NMFS-2023-0054 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

To review Federal Register documents referenced in this proposed rule, you can visit: https://www.fisheries.noaa.gov/management-plan/northeast-multispecies-management-plan.

FOR FURTHER INFORMATION CONTACT: Kyle Molton, Fishery Management Specialist, (978) 281-9236.

SUPPLEMENTARY INFORMATION:

Background

Measures for the Gulf of Maine

The recreational fishery for Gulf of Maine (GOM) cod and GOM haddock is managed under the Northeast Multispecies Fishery Management Plan (FMP). The multispecies fishing year starts on May 1 and runs through April 30 of the following calendar year. The FMP sets sub-annual catch limits (sub-ACL) for the recreational fishery each fishing year for both stocks. These sub-ACLs are a fixed proportion of the overall catch limit for each stock. The FMP also includes proactive recreational accountability measures (AM) to prevent the recreational sub-ACLs from being exceeded and reactive AMs to correct the cause or mitigate the effects of an overage if one occurs.

The proactive AM provision in the FMP provides a process for the Regional Administrator, in consultation with the New England Fishery Management Council (Council), to develop recreational management measures for the upcoming fishing year to ensure that the recreational sub-ACL is achieved, but not exceeded. The provisions governing this action can be found in the FMP's implementing regulations at 50 CFR 648.89(f)(3).

The 2023 recreational sub-ACL for GOM cod established by Framework Adjustment 63 (87 FR 42375; July 15, 2022), is 192 mt, the same as the 2022 recreational sub-ACL. The Council included in Framework Adjustment 65 a 610 mt recreational sub-ACL for GOM haddock. The Council-recommended 2023 sub-ACL for GOM haddock would be reduced from 3,634 mt in 2022, a reduction of approximately 83 percent. This rule does not set sub-ACLs for any stocks; the Council recommended sub-ACLs for Framework Adjustment 65 will be considered in a separate rulemaking.

Using the Council-recommended GOM cod and GOM haddock 2023 sub-ACLs and a peer-reviewed bio-economic model developed by NMFS's Northeast Fisheries Science Center that predicts fishing behavior under different management measures, we estimated 2023 recreational GOM cod and haddock removals under several combinations of minimum sizes, slot limits, possession limits, and closed seasons. The bio-economic model considers measures for the two stocks in conjunction because cod are commonly caught while recreational participants are targeting haddock, linking the catch and effort for each stock to the other. The bio-economic model results suggest that measures for GOM cod can be liberalized slightly without the 2023 recreational fishery's sub-ACL being exceeded. However, the model also suggests that status quo measures for GOM haddock would result in catch exceeding the Council-recommended recreational sub-ACL. With any given model, however, there exists some level of uncertainty in the accuracy of model predictions. As in past years, we used preliminary data from the Marine Recreational Information Program (MRIP) for this fishing year. Incorporation of new waves, or data updates, may result in changes in model estimates. MRIP data can be uncertain and highly variable from year to year.

For each of the sets of management measures, 100 simulations of the bio-economic model were conducted, and the number of simulations which yielded recreational mortality estimates under the sub-ACL was used as an estimate of the probability that the simulated set of measures will not result in an overage of the sub-ACL. Measures that do not result in model-estimated removals under the sub-ACL greater than 50 percent of the time are generally considered unsatisfactory. The results of initial bio-economic model runs were shared with the Council and its Recreational Advisory Panel (RAP) and Groundfish Committee for review at their January meetings.

The RAP and Groundfish Committee were presented with options that reduced the GOM haddock limit to 10 fish per angler (from 20) with status quo minimum size and season. These GOM haddock measures were combined with varying GOM cod seasons, including status quo seasons (April 1-14 and September 1-October 7), an extended fall season (September 1-October 31) with a status quo April season, and an extended fall season (September 1-October 31) while eliminating the April open season (Table 1, Option 1). Each of these measures resulted in catch remaining below the sub-ACL for both stocks. Status quo measures for both stocks with a haddock limit reduced to 15 or 12 fish (from 20) were not presented because they resulted in catches that exceeded the sub-ACL for GOM haddock.

The RAP and the Groundfish Committee both supported modifying the season for GOM cod, to eliminate the April open season and extend the fall season to include all of September and October. The Council also supported this approach and ultimately recommended to NMFS opening the GOM cod season from September 1 through October 31 with a 1-fish limit per angler and a 22-inch (55.9 cm) minimum size. These measures are expected to adequately constrain recreational catch of GOM cod based on bio-economic model estimates. We are proposing these Council-recommended measures for GOM cod for fishing year 2023 (Table 1).

For GOM haddock, the RAP was interested in exploring options that would allow a higher limit than the 10-fish limit options presented. RAP members noted that in order to preserve bookings for party and charter operators, a higher 15-fish bag limit would be appropriate; however, they acknowledged that a higher minimum size would be needed to offset any increase in the limit above 10-fish. As a result, the RAP recommended to the Groundfish Committee a 15-fish limit for GOM haddock with a status quo season, but an increase in the minimum size to 18 inches (45.7 cm), or larger, if needed (from 17 inches (43.2 cm)). The Groundfish Committee forwarded the RAP recommendation to the Council, but also forwarded additional options to the Council for consideration, including a 15-fish limit for GOM haddock with an 18-inch (45.7 cm) minimum size and a closure for March and April (only March is currently closed to GOM haddock harvest) to further limit haddock catch if needed. The Committee also asked the Council to consider additional options including a 17-inch (43.2-cm) minimum size for GOM haddock. The RAP and Committee options were analyzed using the bio-economic model and results were presented to the Council at its January meeting.

The Council discussed the RAP and Groundfish Committee discussion and recommendations regarding GOM haddock at their meeting on January 25, 2023. The bio-economic model results showed that the RAP motion for a status quo GOM haddock season (March closed), a 15-fish limit, and an 18-inch (45.7-cm) minimum size would result in catch well below the sub-ACL (Table 1, Option 2), with expected catch approximately 154 mt lower than a 10-fish limit and 17-inch (43.2-cm) minimum size. The RAP preferred option would also result in approximate 50 mt of additional dead discards due to added mortality of discarded fish under the 18-inch (45.7-cm) minimum size. Options that would close the month of May would result in even further unnecessary reductions in catch of GOM haddock if an 18-inch (45.7-cm) minimum size were implemented. The model also showed that a 15-fish limit coupled with a 17-inch (43.2-cm) minimum size and a March and April closure would also adequately reduce catch, but a 15-fish limit and 17-inch (43.2-cm) minimum size with only March closed would not. While concerns about increasing dead discards with a higher 18-inch (45.7-cm) minimum size where discussed, the Council ultimately recommended the same measures as the RAP for GOM haddock: A status quo season (March closed); a 15-fish limit; and an 18-inch (45.7-cm) minimum size (Table 1, Option 2).

The Council-recommended measures for GOM haddock are very likely to result in catch below the recreational sub-ACL (Table 1, Option 2); however, we are concerned that the Council recommended measures are expected to unnecessarily constrain catch and increase dead discards of GOM haddock compared to other options with a 17-inch (43.2- m) minimum size 10-fish bag limit (Table 1, Option 1). While charter and party vessels may benefit from a 15-fish limit, and may be able to effectively target haddock over 18 inches (45.7 cm), the GOM haddock stock is dominated by relatively young year classes of haddock that are beginning to recruit to the fishery. Advisors on the RAP have suggested that private anglers are more likely to fish closer to shore than for-hire vessels, and therefor may encounter fewer large haddock, which would be problematic under an 18-inch minimum (45.7 cm) size. Smaller haddock are subject to higher discard mortality, especially during the summer and fall months than larger haddock so an increase in discards would convert the majority of potential landings of haddock between 17 and 18 inches (43.2 and 45.7 cm, respectively) into dead discards. While the bio-economic model cannot currently be used to specifically evaluate mode-based measures, the model results suggest that an overall 10-fish limit at 17 inches (43.2 cm) (Table 1, Option 1) would result in higher landings, lower dead discards, more fishing trips, and higher angler satisfaction compared to a 15-fish limit with an 18-inch (45.7 cm) minimum size (Table 1, Option 2), with a very small increase in the risk of exceeding the recreational sub-ACL. Additionally, while a 15-fish limit may result in higher bookings for party and charter vessels, data show that only a small proportion of anglers or trips actually harvest 10 or more haddock per angler; increasing the minimum size from 17 to 18 inches (43.2 and 45.7 cm, respectively) is expected to further reduce the number of haddock harvested per angler. In fishing year 2022, the average number of haddock harvested on angler trips targeting cod or haddock was just 2.3 haddock per angler, 3.6 per angler on for-hire trips, and 2.2 per angler on private trips.

As a result of these concerns, we are proposing to implement the Council-recommended measures for the for-hire angling mode (March closure, 15-fish limit, 18-inch (45.7 cm) minimum size) but proposing alternative measures for the private angling mode. We are proposing to implement a status quo season (March closure), a 10-fish limit, and a 17-inch (43.2 cm) minimum size for the private angling mode (Table 1, Option 3). These mode-based measures are intended to balance the different needs of the for-hire mode and the private mode, where a larger bag limit may be helpful to encourage for-hire bookings. In addition to the proposed measures, we are also soliciting public comment on the Council-recommended measures (Table 1, Option 2), and an additional option originally presented to the RAP and Groundfish Committee that also retains the status quo season and minimum size (17 inches (43.2 cm)) for GOM haddock but would establish a 10-fish limit for both the for-hire and private mode (Table 1, Option 1). We are especially interested in public comments that would allow us to better evaluate the potential tradeoffs between a 10-fish limit with a 17-inch (43.2 cm) minimum size and a 15-fish limit with an 18-inch (45.7 cm) minimum size, including angler preferences for haddock size and bag limits, and considerations when booking for-hire trips.

Table 1—Summary of Gulf of Maine Status Quo Measures, Measures for Comment, and Proposed Measures, With Model Estimates of Catch and the Probability of Catch Remaining Below the Sub-ACLs
| GOM Haddock: For hire possession limit | GOM Haddock: Private angler possession limit | GOM Haddock: For hire minimum size inches (cm) | GOM Haddock: Private angler minimum size inches (cm) | GOM Haddock: Open season | GOM Haddock: Predicted catch (mt) | GOM Haddock: % Simulations under Haddock sub-ACL | GOM Cod: Possession limit | GOM Cod: Minimum size inches (cm) | GOM Cod: Open season | GOM Cod: Predicted catch | GOM Cod: % Simulations under cod sub-ACL
Status Quo Measures | 20 |  | 17 (43.2) |  | May 1-February 28, April 1-30 | 644 | 17 | 1 | 22 (55.9) | September 1-October 7, April 1-14 | 159 | 96
Option 1—Presented to RAP | 10 |  | 17 (43.2) |  |  | 577 | 95 |  |  | September 1-October 31 | 160 | 95
Option 2—Council Recommended Measures | 15 |  | 18 (45.7) |  |  | 473 | 100 |  |  |  | 150 | 99
Option 3—NMFS Proposed Measures | 15 | 10 | 18 (45.7) | 17 (43.2) |  | 549 | NA * |  |  |  | NA * | NA *
* The bio-economic model does not currently support review of mode-based measures so estimates are not available. Predicted performance of Option 3 falls between performance of Option 1 and Option 2.

Measures for the Georges Bank Cod

Similar to the recreational fishery for GOM cod and haddock, GB cod is managed under the Northeast Multispecies FMP and the fishing year starts on May 1 and runs through April 30 of the following calendar year. Unlike GOM cod and haddock the FMP does not set a sub-ACL for the recreational fishery each fishing year for GB cod. Instead, the Council establishes a recreational annual catch target for GB cod. The catch target is not an allocation or sub-ACL but sets an expectation for recreational catch for the fishing year for management purposes that is not expected to result in an overage of the overall GB cod ACL. After considering a number of catch target options, the Council recommended a catch target of 113 mt in Framework Adjustment 65, which will be considered in a separate rulemaking.

The FMP provides a process for the Regional Administrator, in consultation with the Council, to develop recreational management measures for GB cod for fishing years 2023 and 2024 to prevent the recreational fishery from exceeding the annual recreational catch target for GB. The provisions governing this authority can be found in the FMP's implementing regulations at 50 CFR 648.89(g).

Unlike GOM cod and haddock, there is not currently a peer-reviewed bio-economic model available to evaluate the potential impacts of various recreational measures for GB cod. Instead, the RAP, Groundfish Committee, and Council were presented with catch data from recent fishing years and a projection of fishing year 2022 expected catch. Measures were then evaluated based on estimates of the percent reduction in catch from the fishing year 2022 projection. The 2022 catch projection is 218 mt, so a harvest reduction of approximately 48 percent would be required to remain below the Council recommended catch target of 113 mt in fishing year 2023.

Current measures for GB cod include a closed season from May 1 through July 31, a 5-fish limit, and a slot limit with a 22-inch (55.9 cm) minimum size and a 28-inch (71.1 cm) maximum size (Table 2). These measures where implemented as part of Framework Adjustment 63 on July 15, 2022 (87 FR 42375; July 15, 2022), so they were not in place for the full fishing year in 2022. If status quo measures were in place for the full fishing year in 2023, a landings reduction of about 28 percent would be expected if all states implemented complementary measures based on catch during periods when status quo measures would close the fishery in 2023. In fishing year 2022 two states with significant GB cod catch, New York and New Jersey, did not implement complementary state measures. Should any state, particularly those with significant GB cod catch, not implement complementary state measures in 2023, this may lead to regulatory confusion, as federally-permitted for-hire vessels and all vessels fishing in Federal waters must comply with Federal regulations but for hire vessels not holding a Federal multispecies permit and private recreational vessels fishing exclusively in state waters would be subject to state regulations only.

The Council discussed alternative options to further reduce GB cod catch including increases to the minimum size with and without a maximum size limit. The Council also looked at potential modifications to the open season to further reduce catch. The Council ultimately recommended eliminating the maximum size limit (slot), increasing the minimum size from 22 to 23 inches (55.9 to 58.4 cm, respectively), and shifting the closed season back 1 month to close June, July, and August instead of May, June, and July (Table 2). The Council-recommended measures are expected to reduce catch approximately 48 percent from fishing year 2022 to 2023 (Table 2).

We are proposing to implement the Council's recommended recreational measures for GB cod for fishing year 2023 (Table 2). Based on a review of recent catch data these measures are expected to adequately constrain total catch to the Council-recommended catch target. While there is uncertainty as to whether the states of New York and New Jersey will implement complementary measures in their state waters for GB cod, Council and NMFS staff are working with both states to encourage adoption of complementary measures. We will also conduct outreach to the recreational communities in all affected states regarding Federal measures for GB cod, which is expected to increase awareness of Federal measures, reduce regulatory confusion among anglers, and increase the effectiveness of proposed measures.

Table 2—Summary of the Status Quo and Proposed Measures for Georges Bank Cod
| GB Cod: Possession limit | GB Cod: Minimum size inches (cm) | GB Cod: Maximum size inches (cm) | GB Cod: Open season | GB Cod: Closed season | GB Cod: Expected reduction (percent)
Status Quo Measures | 5 | 22 (55.9) | 28 (71.1) | August 1-April 30 | May 1-July 31 | NA
Council Recommended and NMFS Proposed Measures |  | 23 (58.4) | NA | May 1-31, September 1-April 30 | June 1-August 31 | 48

Classification

NMFS is issuing this proposed rule pursuant to section 305(d) of the Magnuson-Stevens Act. The reason for using this regulatory authority is: In a previous action taken pursuant to section 304(b), the Council designed the FMP to authorize NMFS to take this action pursuant to MSA section 305(d). See 50 CFR 648.89(f)(3) and (g). The NMFS Assistant Administrator has determined that this proposed rule is consistent with the Northeast Multispecies FMP and other applicable law, subject to further consideration after public comment.

Due to timing constraints resulting from the Council-recommend measures being finalized on January 25, 2023, NMFS is providing a 15-day comment period. This rulemaking proposes modifications to management measures for GOM cod and haddock and GB cod under existing NMFS authority to implement annual recreational fishing measures, in consultation with the Council. The Northeast multispecies fishing year begins on May 1 of each year and continues through April 30 of the following calendar year. Delaying final action on these proposed measures to allow for a longer comment period than the minimum 15-day amount allowed for by the Magnuson-Stevens Act would result in significant regulatory confusion for the industry and has the potential to negatively impact for-hire fishing business operations and bookings. Delayed implementation of measures may diminish the intended impact and increase the uncertainty of outcomes of measures and may potentially result in overages or overfishing. For GOM haddock, less restrictive status quo measures would remain in effect past May 1, 2023, increasing catch above the levels predicted in the bio-economic model and raising the likelihood of an overage. For GOM cod, a delay in implementation of regulations expanding the fall season may result in reduced or delayed booking for for-hire vessels during that season. For GB cod a delay in implementation past May 1 would result in the fishery remaining closed during a time when the Council has recommended it be opened, and creating significant regulatory confusion. The intended performance of Federal recreational measures also depends on the implementation of complementary state-waters measures by partner states. Delaying a final rule to allow more time for public comment may also impact the ability of states to implement complementary measures in a timely fashion, increasing regulatory confusion among industry, negatively impacting for-hire bookings and introducing significant uncertainty into the performance of recreational measures. This rulemaking proposes changes that fall within the range of options discussed during a series of public meetings. While not currently in place, in recent years mode-based measures have been implemented in the GOM. Changes to recreational measures follow a yearly process that is familiar to and anticipated by fishery participants. Affected and other interested parties have already had opportunity to participate the Council's process to develop this action, which provided extensive opportunity to comment about potential measures and their impacts.

The Chief Counsel for Regulation of the Department of Commerce certified to the Chief Counsel for Advocacy of the Small Business Administration that this proposed rule, if adopted, would not have a significant economic impact on a substantial number of small entities.

For RFA purposes only, NMFS established a small business size standard for businesses, including their affiliates, whose primary industry is commercial fishing (see 50 CFR 200.2). A business primarily engaged in commercial fishing (NAICS code 11411) is classified as a small business if it is independently owned and operated, is not dominant in its field of operation (including its affiliates), and has combined annual receipts less than $11.0 million for all its affiliated operations worldwide. A small for-hire recreational fishing business is defined as a firm with receipts of up to $8.0 million. Having different size standards for different types of fishing activities creates difficulties in categorizing businesses that participate in multiple fishing related activities. For purposes of this assessment, business entities have been classified into the SBA-defined categories based on which activity produced the highest percentage of average annual gross revenues from 2019-2021, the most recent 3-year period for which data are available. This classification is now possible because vessel ownership data are included in the Northeast permit database. The ownership data identify all individuals who own fishing vessels. Using this information, vessels can be grouped together according to common owners. Each of the resulting groups was treated as a single fishing business for purposes of this analysis. Revenues summed across all vessels in a group and the activities that generate those revenues form the basis for determining whether the entity is a large or small business. As the for-hire owner is permitted and required to comply with these measures and can be held liable under the law for violations of the proposed regulations, for-hire business entities are considered directly affected in this analysis. Private anglers are not considered “entities” under the Regulatory Flexibility Act (RFA).

For-hire fishing businesses are required to obtain a Federal charter/party Northeast multispecies fishing permit in order to carry passengers to catch Northeast multispecies including cod and haddock. Limited access permit holders may also take passengers for-hire but are not allowed to hold any open access permits. Thus, the affected businesses entities of concern are businesses that hold Federal Northeast multispecies for-hire fishing permits. While all business entities that hold for-hire permits could be affected by changes in recreational fishing restrictions, not all business that hold for-hire permits actively participate in a given year. Those who actively participate, i.e., report catch, would be the group of business entities that are affected by the regulations. Latent fishing power (in the form of unfished permits) has the potential to alter the impacts on a fishery, but it is not possible to predict how many of these latent business entities will participate in this fishery in fishing year 2023. The Northeast Federal landings database (i.e., vessel trip report data) indicates that a total of 610 vessels held a Northeast multispecies for-hire fishing permit in 2021 (the most recent full year of available data). Of the 610 for-hire permitted vessels, only 140 actively participated in the for-hire Atlantic cod and haddock fishery in fishing year 2021 (i.e., reported catch of cod or haddock). We used these participants to analyze the potential economic impact of these regulations.

Using vessel ownership information and vessel trip report data, it was determined that the 140 for-hire vessels actively participating in the fishery are owned by 127 unique fishing business entities. The vast majority of the 127 fishing businesses were solely engaged in for-hire fishing, but some also earned revenue from commercial shellfish and/or finfish fishing. The highest percentage of annual gross revenues for all but 12 of the fishing businesses was from for-hire fishing.

Average annual gross revenue estimates calculated from the most recent 3 years (2019-2021) indicate that none of the 127 fishing business entities had annual receipts of more than $8.0 million from all of their fishing activities (for-hire, shellfish, and finfish). Therefore, all of the affected fishing business entities are considered “small” by the SBA size standards and thus this action will not disproportionately affect small versus large for-hire business entities. The measures proposed in this action are expected to have a mixed effect on small entities because they are expected to increase opportunities to harvest GOM cod and reduce opportunities to harvest GB cod and GOM haddock, compared to status quo measures. The proposed measures balance the needs of private and for-hire anglers by providing a higher GOM haddock bag limit for for-hire to encourage bookings and offset the potential impact of reduction in overall harvest. This action is not expected to have a significant or substantial effect on small entities. Under the proposed action, small entities would not be placed at a competitive disadvantage relative to large entities, and the regulations would not substantially reduce profit for any small entities. Based on these conclusions, an initial regulatory flexibility analysis is not required and none has been prepared.

This proposed rule contains no information collection requirements under the Paperwork Reduction Act of 1995.

This proposed rule has been determined to be not significant for purposes of Executive Order 12866.

List of Subjects in 50 CFR Part 648

Fisheries, Fishing, Recordkeeping and reporting requirements.

Dated: April 11, 2023.
Samuel D. Rauch, III,
Deputy Assistant Administrator for Regulatory Programs, National Marine Fisheries Service.

For the reasons set out in the preamble, NMFS proposes to amend 50 CFR part 648 as follows:

PART 648—FISHERIES OF THE NORTHEASTERN UNITED STATES

1. The authority citation for part 648 continues to read as follows:

Authority: 16 U.S.C. 1801 et seq.

2. In § 648.89, revise Table 1 to Paragraph (b)(1), Table 2 to Paragraph (c)(1)(i), and Table 3 to Paragraph (c)(2), to read as follows:

§ 648.89 Recreational and charter/party vessel restrictions.

* * * * *

(b) * * *

(1) * * *

Table 1 to Paragraph (b)(1)
Species | Charter/party minimum size: Inches | Charter/party minimum size: cm | Private minimum size: Inches | Private minimum size: cm | Maximum size: Inches | Maximum size: cm
Cod:
Inside GOM Regulated Mesh Area ¹ | 22 | 55.9 | 22 | 55.9 | N/A | N/A.
Outside GOM Regulated Mesh Area ¹ | 23 | 58.4 | 23 | 58.4 | N/A | N/A.
Haddock:
Inside GOM Regulated Mesh Area ¹ | 18 | 45.7 | 17 | 43.2 | N/A | N/A.
Outside GOM Regulated Mesh Area ¹ | 18 | 45.7 | 18 | 45.7 | N/A | N/A.
Pollock | 19 | 48.3 | 19 | 48.3 | N/A | N/A.
Witch Flounder (gray sole) | 14 | 35.6 | 14 | 35.6 | N/A | N/A.
Yellowtail Flounder | 13 | 33.0 | 13 | 33.0 | N/A | N/A.
American Plaice (dab) | 14 | 35.6 | 14 | 35.6 | N/A | N/A.
Atlantic Halibut | 41 | 104.1 | 41 | 104.1 | N/A | N/A.
Winter Flounder (black back) | 12 | 30.5 | 12 | 30.5 | N/A | N/A.
Redfish | 9 | 22.9 | 9 | 22.9 | N/A | N/A.
¹ GOM Regulated Mesh Area specified in § 648.80(a).

* * * * *

(c) * * *

(1) * * *

(i) * * *

Table 2 to Paragraph (c)(1)(i)
Stock | Open season | Possession limit | Closed season
GB Cod | September 1-April 30; May 1-31 | 5 | June 1-August 31.
GOM Cod | September 1-October 31 | 1 | May 1-August 31; November 1-April 30.
GB Haddock | All Year | Unlimited | N/A.
GOM Haddock | May 1-February 28 (or 29); April 1-30 | 10 | March 1-March 31.
GB Yellowtail Flounder | All Year | Unlimited | N/A.
SNE/MA Yellowtail Flounder | All Year | Unlimited | N/A.
CC/GOM Yellowtail Flounder | All Year | Unlimited | N/A.
American Plaice | All Year | Unlimited | N/A.
Witch Flounder | All Year | Unlimited | N/A.
GB Winter Flounder | All Year | Unlimited | N/A.
GOM Winter Flounder | All Year | Unlimited | N/A.
SNE/MA Winter Flounder | All Year | Unlimited | N/A.
Redfish | All Year | Unlimited | N/A.
White Hake | All Year | Unlimited | N/A.
Pollock | All Year | Unlimited | N/A.
N. Windowpane Flounder | CLOSED | No retention | All Year.
S. Windowpane Flounder | CLOSED | No retention | All Year.
Ocean Pout | CLOSED | No retention | All Year.
Atlantic Halibut | See paragraph (c)(3).
Atlantic Wolffish | CLOSED | No retention | All Year.

* * * * *

(2) * * *

Table 3 to Paragraph (c)(2)
Stock | Open season | Possession limit | Closed season
GB Cod | September 1-April 30; May 1-31 | 5 | June 1-August 31.
GOM Cod | September 1-October 31 | 1 | May 1-August 31; November 1-April 30.
GB Haddock | All Year | Unlimited | N/A.
GOM Haddock | May 1-February 28 (or 29); April 1-30 | 15 | March 1-March 31.
GB Yellowtail Flounder | All Year | Unlimited | N/A.
SNE/MA Yellowtail Flounder | All Year | Unlimited | N/A.
CC/GOM Yellowtail Flounder | All Year | Unlimited | N/A.
American Plaice | All Year | Unlimited | N/A.
Witch Flounder | All Year | Unlimited | N/A.
GB Winter Flounder | All Year | Unlimited | N/A.
GOM Winter Flounder | All Year | Unlimited | N/A.
SNE/MA Winter Flounder | All Year | Unlimited | N/A.
Redfish | All Year | Unlimited | N/A.
White Hake | All Year | Unlimited | N/A.
Pollock | All Year | Unlimited | N/A.
N. Windowpane Flounder | CLOSED | No retention | All Year.
S. Windowpane Flounder | CLOSED | No retention | All Year.
Ocean Pout | CLOSED | No retention | All Year.
Atlantic Halibut | See Paragraph (c)(3).
Atlantic Wolffish | CLOSED | No retention | All Year.

* * * * *

[FR Doc. 2023-08179 Filed 4-17-23; 8:45 am]

BILLING CODE 3510-22-P